SMALL BUSINESS ADMINISTRATION

[Disaster Declaration # 14656 and # 14657]

Georgia Disaster Number GA-00066

AGENCY: U.S. Small Business Administration.

ACTION: Amendment 1.

SUMMARY: This is an amendment of the Presidential declaration of a major disaster for Public Assistance Only for the State of Georgia (FEMA-4259-DR), dated 02/26/2016.

Incident: Severe Storms and Flooding.

Incident Period: 12/22/2015 through 01/13/2016.

Effective Date: 03/28/2016.

Physical Loan Application Deadline Date: 04/26/2016.

Economic Injury (EIDL) Loan Application Deadline Date: 11/28/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Georgia, dated 02/26/2016, is hereby amended to include the following areas as adversely affected by the disaster.

Primary Counties:

Union.

All other information in the original declaration remains unchanged.

(Catalog of Federal Domestic Assistance Numbers 59008)

Lisa Lopez-Suarez,
Acting Associate Administrator for Disaster Assistance.

[FR Doc. 2016-07648 Filed 4-1-16; 8:45 am]

BILLING CODE 8025-01-P